NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995. This is the second notice for public comment; the first was published in the Federal Register and no comments were received. NSF is forwarding the proposed renewal submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, VA 22314, or send email to splimpto@nsf.gov. Individuals who use a telecommunications device for the deaf (TDD) may call the Federal Information Relay Service (FIRS) at 1-800-877-8339, which is accessible 24 hours a day, 7 days a week, 365 days a year (including federal holidays). Comments regarding this information collection are best assured of having their full effect if received within 30 days of this notification. Copies of the submission(s) may be obtained by calling 703-292-7556.

NSF may not conduct or sponsor a collection of information unless the collection of information displays a currently valid OMB control number, and the agency informs potential persons who are to respond to the collection of information that such persons are not required to respond to the collection of information unless it displays a currently valid OMB control number.

SUPPLEMENTARY INFORMATION: Title of Collection: “Postdoctoral Research Fellowships in Biology Application Form A and Reference Writer Recommendation.”

OMB Approval Number: 3145-0203.

Type of Request: Intent to seek approval to renew an information collection for three years.

Proposed Project: Two organizational units within the Directorate of Biological Sciences of the National Science Foundation will use the NSF Application Form A and recommendation form for the Postdoctoral Research Fellowships in Biology Program (https://beta.nsf.gov/funding/opportunities/postdoctoral-research-fellowships-biology-prfb). They are the Division of Biological Infrastructure (DBI) and the Division of Integrative Organismal Systems (IOS). All scientists submitting the NSF Application Forms and recommendation forms to these units will be asked to complete an electronic version of the forms. The NSF Application Form A consists of brief questions about the investigator and the substance of the research. The recommendation form consists of brief questions about the reference writer and the uploading of a recommendation letter drafted by the reference writer.

Use of the Information: The information gathered with the NSF Application Form A and recommendation form serves three main purposes. The first is to provide vehicles for applicants to submit applications and reference writers to submit recommendations.

The second is facilitation of the proposal review process. Since peer review is a key component of NSF's grant-making process, it is imperative that proposals are reviewed by scientists with appropriate expertise. The information collected helps ensure that the proposals are evaluated by specialists who are well versed in appropriate subject matter. This helps maintain a fair and equitable review process.

The third use of the information is program evaluation. The Directorate is committed to investing in a range of substantive areas. With data from this collection, the Directorate can calculate submission rates and funding rates in specific areas of research. Similarly, the information can be used to identify emerging areas of research, evaluate changing infrastructure needs in the research community, and track the amount of international research. As the National Science Foundation is committed to funding cutting-edge science, these factors all have implications for program management.

The Directorate of Biological Sciences has a continuing commitment to monitor its information collection in order to preserve its applicability and necessity. Through periodic updates and revisions, the Directorate ensures that only useful, non-redundant information is collected. These efforts will reduce excessive reporting burdens.

Burden on the Public: The Directorate estimates that an average of 25 minutes is expended for each application submitted and an average of 170 minutes is expended for reference writer recommendation added. An estimated 930 responses are expected during the course of one year for a total of 542 public burden hours annually.

Expected Respondents: Individuals.

Estimated Number of Responses: 930.

Estimated Number of Respondents: 930.

Estimated Total Annual Burden on Respondents: 1886 hours.

Frequency of Responses: On occasion.

Dated: September 22, 2022.
Suzanne H. Plimpton,
Reports Clearance Officer, National Science Foundation.

[FR Doc. 2022-20911 Filed 9-27-22; 8:45 am]

BILLING CODE 7555-01-P